DEPARTMENT OF TRANSPORTATION

Federal Aviation Administration

90th Meeting: RTCA Special Committee 159, Global Positioning Systems (GPS)

AGENCY: Federal Aviation Administration (FAA), U.S. Department of Transportation (DOT)

ACTION: Meeting Notice of RTCA Special Committee 159, RTCA Special Committee 159, Global Positioning Systems (GPS)

SUMMARY: The FAA is issuing this notice to advise the public of the eighty-ninth meeting of the RTCA Special Committee 159, Global Positioning Systems (GPS).

DATES: The meeting will be held March 12-15, 2013 from 9:00 a.m.-4:30 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 330-0652/(202) 833-9339, fax at (202) 833-9434, or Web site at http://www.rtca.org.

SUPPLEMENTARY INFORMATION: Pursuant to section 10(a)(2) of the Federal Advisory Committee Act (Pub. L. No. 92-463, 5 U.S.C., App.), notice is hereby given for a meeting of Special Committee 159. The agenda will include the following:

Working Group Sessions

March 12

• Working Group 2, GPS/SBAS, MacIntosh-NBAA Room and Colson Board Room.

March 13

• 9:00 a.m.-12:00 p.m., Working Group 2, GPS/SBAS, A4A Room.

• 1:00 p.m.-5:00 p.m., Working Group 4, Precision Landing Guidance, GPS/GBAS, MacIntosh-NBAA Room and Colson Board Room.

March 14

• Working Group 4, Precision Landing Guidance, GPS/GBAS, MacIntosh-NBAA Room and Colson Board Room.

• 1:00 p.m-5:00 p.m., Working Group 7, GPS/Antennas, A4A Room.

March 15, 2013

• Chairman's Introductory Remarks.

• Approval of Summary of the Eighty-Ninth Meeting held October 5, 2012.

• Review Working Group (WG) Progress and Identify Issues for Resolution.

• GPS/3nd Civil Frequency (WG-1).

• GPS/WAAS (WG-2).

• GPS/GLONASS (WG-2A).

• GPS/Inertial (WG-2C).

• GPS/Precision Landing Guidance (WG-4).

• GPS/Airport Surface Surveillance (WG-5).

• GPS/Interference (WG-6).

• GPS/Antennas (WG-7).

• Review of EUROCAE Activities.

• Assignment/Review of Future Work.

• Other Business.

• Date and Place of Next Meeting.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 21, 2013.
Paige Williams,
Management Analyst, NextGen, Business Operations Group, Federal Aviation Administration.

[FR Doc. 2013-04564 Filed 2-26-13; 8:45 am]

BILLING CODE 4910-13-P